INTERNATIONAL TRADE COMMISSION

[Investigation No. 337-TA-718]

Certain Electronic Paper Towel Dispensing Devices and Components Thereof; Issuance of General Exclusion Order and Cease and Desist Orders; Termination of Investigation

AGENCY: U.S. International Trade Commission.

ACTION: Notice.

SUMMARY: Notice is hereby given that the U.S. International Trade Commission has issued a general exclusion order and cease and desist orders in the above-captioned investigation under section 337 of the Tariff Act of 1930, as amended, 19 U.S.C. 337 (“section 337”), and has terminated the investigation.

FOR FURTHER INFORMATION CONTACT: James A. Worth, Office of the General Counsel, U.S. International Trade Commission, 500 E Street SW., Washington, DC 20436, telephone (202) 205-3065. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on May 21, 2010, based upon a complaint filed on behalf of Georgia-Pacific Consumer Products LP of Atlanta, Georgia (“Georgia-Pacific”) on April 19, 2010, and supplemented on May 10, 2010. 75 FR 28652 (May 21, 2010). The complaint alleged violations of Section 337 of the Tariff Act of 1930 (19 U.S.C. 1337) in the importation into the United States, the sale for importation, and the sale within the United States after importation of certain electronic paper towel dispensing devices and components thereof by reason of infringement of certain claims of U.S. Patent Nos. 6,871,815 (“the '815 patent”); 7,017,856 (“the '856 patent”); 7,182,289 (“the '289 patent”); and 7,387,274 (“the '274 patent”). The complainant named as respondents Kruger Products LP of Mississauga, Canada; KTG USA LP of Memphis, Tennessee (“KTG USA”); Stefco Industries, Inc. of Haines City, Florida (“Stefco”); Cellynne Corporation of Haines City, Florida (“Cellynne”); Draco Hygienic Products Inc. of Ontario, California; NetPak Electronic Plastic and Cosmetic, Inc., d/b/a/Open for Business of Chicago, Illinois (“NetPak Chicago”); NetPak Electronik Plastik ve Kozmetik Sanayi, Ve Ticaret Ltd of Izmir, Turkey (“NetPak Turkey”); Paradigm Marketing Consortium, Inc. of Syosset, New York; United Sourcing Network Corp. of Syosset, New York; New Choice (H.K.) Ltd. of Shatin, Hong Kong; and Vida International Inc. of Taipei, Taiwan.

On August 16, 2010, the Commission issued notice of its determination not to review an ID amending the complaint and notice of investigation: (1) To correct the corporate name of NetPak Chicago; (2) to redefine “Kruger” to “Kruger Products and/or KTG USA”; (3) to indicate that Georgia-Pacific no longer alleges that NetPak Turkey is the source of Stefco's and Cellynne's accused product; (4) to add new respondents Jet Power International Limited; Winco Industries Co.; DWL Industries Co.; Ko-Am Corporation Inc. d/b/a Janitor's World; Natury, S.A. De C.V.; Franklin Financial Management, Inc. d/b/a Update International; and Alliance in Manufacturing LLC.

Two respondents, Stefco and Cellynne, did not respond to the complaint and notice of investigation, and a third respondent, NetPak Turkey, did not participate in discovery. On October 12, 2010, the ALJ issued an order to show cause why Stefco and Cellynne should not be found in default, and on November 2, 2010, issued an order to show cause why NetPak Turkey should not be found in default. On December 30, 2010, the ALJ issued an ID (Order No. 28) finding Stefco, Cellynne, and NetPak Turkey in default. On January 16, 2011, the Commission determined not to review this order. The other respondents to the investigation were terminated by consent order.

On July 12, 2011, the ALJ issued an ID, Order No. 36, finding substantial, reliable, and probative evidence that the Stefco, Cellynne, and Netpak Turkey violated section 337 based on the importation, sale for importation, and/or sale after importation into the United States of electronic paper towel dispensing devices that infringe the asserted patent claims. The ALJ issued a recommended determination with the ID. The ALJ recommended that the Commission issue a general exclusion order and cease and desist orders, finding that such orders would not be contrary to the public interest, and recommended that the bond for importation during the presidential review period be set at 100 percent of the entered value of the infringing products for respondents and no bond be set for nonrespondents. On August 19, 2011, the Commission issued notice of its determination not to review the ID, and solicited submissions on remedy, the public interest, and bonding. 76 FR 53154 (Aug. 25, 2011). Georgia-Pacific and the Commission investigative attorney filed submissions and reply submissions with respect thereto.

After reviewing the relevant portions of the record, the Commission has determined to issue a general exclusion order with respect to claims 4-7 of the '815 patent, claims 8-22 of the '856 patent, claims 1-3 of the '289 patent, and claims 4-22 of the '274 patent, and cease and desist orders against Stefco and Cellynne with respect to the same claims. In this connection, the Commission has determined to set a bond of 100 percent of entered value during the period of Presidential review. The investigation is terminated.

The authority for the Commission's determination is contained in section 337 of the Tariff Act of 1930, as amended (19 U.S.C. 1337), and Part 210 of the Commission's Rules of Practice and Procedure (19 CFR part 210).

By order of the Commission.
Issued: December 1, 2011.
James R. Holbein,
Secretary to the Commission.

[FR Doc. 2011-31257 Filed 12-5-11; 8:45 am]

BILLING CODE 7020-02-P